DEPARTMENT OF COMMERCE

International Trade Administration

[A-570-904]

Certain Activated Carbon From the People's Republic of China: Final Results of Antidumping Duty Administrative Review; 2015-2016

AGENCY: Enforcement and Compliance, International Trade Administration, Department of Commerce.

SUMMARY: On May 5, 2017 the Department of Commerce (the Department) published the preliminary results of the 9th administrative review of the antidumping duty order on certain activated carbon from the People's Republic of China (PRC). We gave interested parties an opportunity to comment on the preliminary results. Based on our analysis of the comments received, we made changes to the margin calculations for these final results of the antidumping duty administrative review. The final weighted-average dumping margins are listed below in the “Final Results of the Review” section of this notice. The period of review (POR) is April 1, 2015, through March 31, 2016. The two mandatory respondents in this administrative review are Jacobi Carbons AB (Jacobi) and Datong Juqiang Activated Carbon Co. Ltd. (Datong Juqiang).

DATES: Applicable November 7, 2017.

FOR FURTHER INFORMATION CONTACT: Robert Palmer or John Anwesen, AD/CVD Operations, Office VIII, Enforcement and Compliance, International Trade Administration, Department of Commerce, 14th Street and Constitution Avenue NW., Washington, DC 20230; telephone: (202) 482-9068, or (202) 482-0131, respectively.

SUPPLEMENTARY INFORMATION:

Background

The Department published the Preliminary Results ¹ on May 5, 2017. For events subsequent to the Preliminary Results, see the Department's Issues and Decision Memorandum.² On July 24, 2017,³ in accordance with section 751(a)(3)(A) of the Tariff Act of 1930, as amended (Act), the Department extended the deadline for issuing the final results by 60 days until November 1, 2017.

¹ See Certain Activated Carbon from the People's Republic of China: Preliminary Results of Antidumping Duty Administrative Review; 2015-2016, 82 FR 21195 (May 5, 2017), and accompanying Preliminary Decision Memorandum (Preliminary Results).

² See Memorandum,”Certain Activated Carbon from the People's Republic of China: Issues and Decision Memorandum for the Final Results of the Ninth Antidumping Duty Administrative Review,” dated concurrently with, and hereby adopted by, this notice (Issues and Decision Memorandum).

³ See Memorandum, “Activated Carbon from the People's Republic of China: Extension of Deadline for Final Results of 2015-2016 Antidumping Duty Administrative Review,” dated June 13, 2016.

Scope of the Order

The merchandise subject to the Order ⁴ is certain activated carbon. The products are currently classifiable under the Harmonized Tariff Schedule of the United States (HTSUS) subheading 3802.1000. Although the HTSUS subheading is provided for convenience and customs purposes, the written description of the scope of the order remains dispositive.⁵

⁴ See Notice of Antidumping Duty Order: Certain Activated Carbon from the People's Republic of China, 72 FR 20988 (April 27, 2007) (Order).

⁵ See Issues and Decision Memorandum for a complete description of the scope of the Order.

Analysis of Comments Received

In the Issues and Decision Memorandum, we addressed all issues raised in parties' case and rebuttal briefs. In Appendix I to this notice, we provided a list of the issues raised by parties. The Issues and Decision Memorandum is a public document and is on file in the Central Records Unit (CRU), Room B8024 of the main Department of Commerce building, as well as electronically via Enforcement and Compliance's Antidumping and Countervailing Duty Centralized Electronic Service System (ACCESS). ACCESS is available to registered users at https://access.trade.gov and it is available to all parties in the CRU. In addition, parties can directly access a complete version of the Issues and Decision Memorandum on the internet at http://enforcement.trade.gov/frn/index.html. The signed Issues and Decision Memorandum and the electronic version of the Issues and Decision Memorandum are identical in content.

Verification

Pursuant to section 782(i) of the Act, and 19 CFR 351.307(b)(iv), from May 9-23, 2017, we conducted verification of the questionnaire responses of Datong Juqiang and Jacobi.⁶

⁶ See Memorandum, “Verification of the Questionnaire Responses of Datong Juqiang Activated Carbon Co., Ltd. in the Antidumping Administrative Review of Certain Activated Carbon from the People's Republic of China,” dated June 30, 2017; Memorandum, “Verification of Questionnaire Responses of Datong Juqiang Activated Carbon Co., Ltd.'s Supplier in the Antidumping Administrative Review of Certain Activated Carbon from the People's Republic of China,” dated June 30, 2017; Memorandum, “Verification of the Questionnaire Responses of Ningxia Huahui Activated Carbon Co., Ltd. in the Antidumping Administrative Review of Certain activated Carbon form the People's Republic of China,” dated June 30, 2017; Memorandum, “Verification of the Questionnaire Responses of Ningxia Guanghua Activated Carbon Co., Ltd. in the Antidumping Administrative Review of Certain Activated Carbon from the People's Republic of China,” dated June 30, 2017; and Memorandum, “Verification of the Questionnaire Responses of Jacobi Carbons Industry (Tianjin) Company Limited in the Antidumping Administrative Review of Certain Activated Carbon from the People's Republic of China,” dated June 30, 2017.

Changes Since the Preliminary Results

Based on our review of the record and comments received from interested parties regarding our Preliminary Results, we made certain revisions to the margin calculations for Jacobi, Datong Juqiang, and the non-examined, separate rate respondents.⁷ Further, the Issues and Decision Memorandum contains descriptions of these revisions.⁸

⁷ See Memoranda, “Antidumping Duty Administrative Review of Certain Activated Carbon from the People's Republic of China: Final Determination Calculation Memorandum for Jacobi Carbons AB,” and “Antidumping Duty Administrative Review of Certain Activated Carbon the People's Republic of China: Final Determination Calculation Memorandum for Datong Juqiang Activated Carbon Co., Ltd., ” dated concurrently with this memorandum.

⁸ See Issues and Decisions Memorandum at 4-5 for a summary of these revisions.

Final Determination of No Shipments

In the Preliminary Results, the Department preliminarily determined that Calgon Carbon (Tianjin) Co., Ltd., Sinoacarbon International Trading Co., Ltd., and Shanxi Dapu International Trade Co., Ltd. had no shipments during the period of review (POR).⁹ We received no information to contradict this determination. Therefore, the Department continues to determine that Calgon Carbon (Tianjin) Co., Ltd., Sinoacarbon International Trading Co., Ltd., and Shanxi Dapu International Trade Co., Ltd. had no shipments of subject merchandise during the POR, and will issue appropriate liquidation instructions that are consistent with our “automatic assessment” clarification, for these final results.¹⁰

⁹ See Preliminary Results at 21195.

¹⁰ See Non-Market Economy Antidumping Proceedings: Assessment of Antidumping Duties, 76 FR 65694 (October 4, 2011) (Assessment Practice Refinement).

Separate Rate Respondents

In our Preliminary Results, we determined that Jacobi, Datong Juqiang, and 13 other companies demonstrated their eligibility for separate rates.¹¹ We have received no comments or argument since the issuance of the Preliminary Results that provides a basis for reconsideration of these determinations. Therefore, for these final results, we continue to find that the 13 companies listed in the table in the “Final Results” section of this notice are eligible for a separate rate.

¹¹ See Preliminary Results, 82 FR 21196, and accompanying Preliminary Decision Memorandum at 7-9.

Rate for Non-Examined Separate Rate Respondents

The statute and the Department's regulations do not address the establishment of a rate to be assigned to respondents not selected for individual examination when the Department limits its examination of companies subject to the administrative review pursuant to section 777A(c)(2)(B) of the Act. Generally, the Department looks to section 735(c)(5) of the Act, which provides instructions for calculating the all-others rate in an investigation, for guidance when calculating the rate for respondents not individually examined in an administrative review. Section 735(c)(5)(A) of the Act articulates a preference for not calculating an all-others rate using rates which are zero, de minimis, or based entirely on facts available.¹² Accordingly, the Department's usual practice has been to determine the dumping margin for companies not individually examined by averaging the weighted-average dumping margins for the individually examined respondents, excluding rates that are zero, de minimis, or based entirely on facts available.¹³

¹² See Ball Bearings and Parts Thereof from France, Germany, Italy, Japan, and the United Kingdom: Final Results of Antidumping Duty Administrative Reviews and Rescission of Reviews in Part, 73 FR 52823, 52824 (September 11, 2008), and accompanying Issues and Decision Memorandum(IDM) at Comment 16.

¹³ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

In the Preliminary Results,¹⁴ the Department calculated rates for Datong Juqiang and Jacobi that were not zero, de minimis, or based entirely on facts available. However, for these final results, the calculated rate for Datong Juqiang is zero, and the calculated rate for Jacobi continues to be above de minimis. Therefore, the Department has assigned to the companies that have not been individually examined, but have demonstrated their eligibility for a separate rate, Jacobi's calculated rate for these final results.

¹⁴ See Preliminary Decision Memorandum at 10-11.

Final Results of the Review

For companies subject to this review, which established their eligibility for a separate rate, the Department determines that the following weighted-average dumping margins exist for the POR from April 1, 2015, through March 31, 2016:

Exporter | Weighted- average dumping margin (USD/kg) ¹⁵
Jacobi Carbons AB ¹⁶ | 0.22
Datong Juqiang Activated Carbon Co., Ltd. | 0.00
Beijing Pacific Activated Carbon Products Co., Ltd. | 0.22
Carbon Activated Tianjin Co., Ltd. | 0.22
Datong Municipal Yunguang Activated Carbon Co., Ltd. | 0.22
Jilin Bright Future Chemicals Company, Ltd. | 0.22
Ningxia Guanghua Cherishmet Activated Carbon Co., Ltd. | 0.22
Ningxia Huahui Activated Carbon Co., Ltd. | 0.22
Ningxia Mineral and Chemical Limited | 0.22
Shanxi Industry Technology Trading Co., Ltd. | 0.22
Shanxi Sincere Industrial Co., Ltd. | 0.22
Shanxi Tianxi Purification Filter Co., Ltd. | 0.22
Tancarb Activated Carbon Co., Ltd. | 0.22
Tianjin Channel Filters Co., Ltd. | 0.22
Tianjin Maijin Industries Co., Ltd. | 0.22

In the Preliminary Results, the Department found that 186 companies for which a review was requested did not establish eligibility for a separate rate because they did not file a separate rate application or a separate rate certification, as appropriate. No interested party commented on the Department's preliminary determination with respect to these 186 companies. Therefore, for these final results we determine these companies, listed in Appendix II of this notice, to be part of the PRC-wide entity. Because no party requested a review of the PRC-wide entity, and the Department no longer considers the PRC-wide entity as an exporter conditionally subject to administrative reviews,¹⁷ we did not conduct a review of the PRC-wide entity. Thus, the weighted-average dumping margin for the PRC-wide entity (i.e., 2.42 USD/kg) ¹⁸ is not subject to change as a result of this review.

¹⁵ In the second administrative review of the Order, the Department determined that it would calculate per-unit weighted-average dumping margins and assessment rates for all future reviews. See Certain Activated Carbon from the People's Republic of China: Final Results and Partial Rescission of Second Antidumping Duty Administrative Review, 75 FR 70208, 70211 (November 17, 2010) (AR2 Carbon), and accompanying IDM at Comment 3.

¹⁶ In the third administrative review of the Order, the Department found that Jacobi Carbons AB, Tianjin Jacobi International Trading Co. Ltd., and Jacobi Carbons Industry (Tianjin) are a single entity and, because there were no facts presented on the record of this review which would call into question our prior finding, we continue to treat these companies as part of a single entity for this administrative review, pursuant to sections 771(33)(E), (F), and (G) of the Act and 19 CFR 351.401(f). See Certain Activated Carbon from the People's Republic of China: Final Results and Partial Rescission of Third Antidumping Duty Administrative Review, 76 FR 67142, 67145 n.25 (October 31, 2011); See also Preliminary Decision Memorandum at n.8.

¹⁷ See Antidumping Proceedings: Announcement of Change in Department Practice for Respondent Selection in Antidumping Duty Proceedings and Conditional Review of the Nonmarket Economy Entity in NME Antidumping Duty Proceedings, 78 FR 65963, 65969-70 (November 4, 2013).

¹⁸ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), the Department has determined, and U.S Customs and Border Protection (CBP) shall assess, antidumping duties on all appropriate entries covered by this review. The Department intends to issue assessment instructions to CBP 15 days after the publication date of these final results of review.

For each individually-examined respondent in this review which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).¹⁹ The Department will also calculate (estimated) ad valorem importer-specific assessment rates with which to assess whether the per-unit assessment rates are de minimis. Where either the respondent's weighted-average dumping margin is zero or de minimis, or an importer- (or cus-tomer-) specific assessment rate is zero or de minimis, we will instruct CBP to liquidate the appropriate entries without regard to antidumping duties.²⁰

¹⁹ See AR2 Carbon, and accompanying IDM at Comment 3.

²⁰ See 19 CFR 351.106(c)(2).

For the respondents which were not selected for individual examination in this administrative review and which qualified for a separate rate, the assessment rate will be equal to the rate assigned to them for the final results (i.e. the 0.22 USD/kg rate for Jacobi).

For the companies identified in Appendix II as part of the PRC-wide entity, we will instruct CBP to apply a per-unit assessment rate of 2.42 USD/kg to all entries of subject merchandise during the POR which were produced or exported by those companies.

Pursuant to a refinement in the Department's non-market economy practice, for sales that were not reported in the U.S. sales data submitted by companies individually examined during this review, the Department will instruct CBP to liquidate entries associated with those sales at the rate for the PRC-wide entity. Furthermore, where the Department found that an exporter under review had no shipments of the subject merchandise, any suspended entries that entered under that exporter's case number (i.e., at that exporter's cash deposit rate) will be liquidated at the rate for the PRC-wide entity.²¹

²¹ For a full discussion of this practice, see Assessment Practice Refinement, 76 FR at 65694.

Cash Deposit Requirements

The following per-unit cash deposit requirements will be effective upon publication of the final results of this administrative review for all shipments of the subject merchandise from the PRC entered, or withdrawn from warehouse, for consumption on or after the publication date, as provided by section 751(a)(2)(C) of the Act: (1) For Jacobi, Datong Juqiang, and the non-examined, separate rate respondents, the cash deposit rate will be equal to their weighted-average dumping margins established in the final results of this review; (2) for previously investigated or reviewed PRC and non-PRC exporters not listed above that have separate rates, the cash deposit rate will continue to be the exporter-specific rate published for the most recently completed segment of this proceeding in which they were reviewed; (3) for all PRC exporters of subject merchandise that have not been found to be entitled to a separate rate, the cash deposit rate will be equal to the weighted-average dumping margin for the PRC-wide entity (i.e., 2.42 USD/kg); and (4) for all non-PRC exporters of subject merchandise which have not received their own separate rate, the cash deposit rate will be the rate applicable to the PRC exporter(s) that supplied that non-PRC exporter. These per-unit cash deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: November 1, 2017.
Gary Taverman,
Deputy Assistant Secretary for Antidumping and Countervailing Duty Operations, performing the non-exclusive functions and duties of the Assistant Secretary for Enforcement and Compliance.

Appendix I

Issues and Decision Memorandum

Summary

Background

Scope of the Order

Changes Since the Preliminary Results

Discussion of the Issues

Comment 1: Value Added Tax and Entered Value

Comment 2: Inflator Calculation

Comment 3: Anthracite Coal Surrogate Value

Comment 4: Coal Tar Surrogate Value

Comment 5: Carbonized Material Surrogate Value

Comment 6: Hydrochloric Acid Surrogate Value

Comment 7: Whether To Use IndustrySpecific Thai Labor Data

Comment 8: Whether To Continue to Use the Thai Financial Statements

Comment 9: Whether To Apply Partial Adverse Facts Available for Datong Juqiang's Wood Input

Comment 10: Whether To Revise Ningxia Guanghua Activated Carbon Co., Ltd.'s Water Consumption

Comment 11: Jacobi Tianjin New Packing Variable

Comment 12: Whether To Adjust Jacobi Tianjin's Packing Variance

Comment 13: Jacobi Tianjin's Fiberboard Consumption

Comment 14: Whether To Apply Adverse Facts Available to Jacobi Tianjin's Factors of Production Allocation

Recommendation

Appendix II

Companies Not Eligible for a Separate Rate and To Be Treated as Part of PRC-Wide Entity

Company

1. AmeriAsia Advanced Activated Carbon Products Co., Ltd.

2. Anhui Handfull International Trading (Group) Co., Ltd.

3. Anhui Hengyuan Trade Co. Ltd.

4. Anyang Sino-Shon International Trading Co., Ltd.

5. Baoding Activated Carbon Factory

6. Beijing Broad Activated Carbon Co., Ltd.

7. Beijing Embrace Technology Co., Ltd.

8. Beijing Haijian Jiechang Environmental Protection Chemicals

9. Beijing Hibridge Trading Co., Ltd,

10. Bengbu Jiutong Trade Co, Ltd.

11. Changji Hongke Activated Carbon Co., Ltd.

12. Chengde Jiayu Activated Carbon Factory

13. China National Building Materials and Equipment Import and Export Corp.

14. China National Nuclear General Company Ningxia Activated Carbon Factory

15. China Nuclear Ningxia Activated Carbon Plant

16. China SDIC International Trade Co., Ltd.

17. Chongqing Feiyang Active Carbon Manufacture Co., Ltd.

18. Da Neng Zheng Da Activated Carbon Co., Ltd.

19. Datong Carbon Corporation

20. Datong Changtai Activated Carbon Co., Ltd.

21. Datong City Zuoyun County Activated Carbon Co., Ltd.

22. Datong Fenghua Activated Carbon

23. Datong Forward Activated Carbon Co., Ltd.

24. Datong Fuping Activated Carbon Co. Ltd.

25. Datong Guanghua Activated Co., Ltd.

26. Datong Hongtai Activated Carbon Co., Ltd.

27. Datong Huanqing Activated Carbon Co., Ltd.

28. Datong Huaxin Activated Carbon

29. Datong Huibao Active Carbon Co., Ltd.

30. Datong Huibao Activated Carbon Co., Ltd.

31. Datong Huiyuan Cooperative Activated Carbon Plant

32. Datong Kaneng Carbon Co. Ltd.

33. Datong Locomotive Coal & Chemicals Co., Ltd.

34. Datong Tianzhao Activated Carbon Co., Ltd.

35. DaTong Tri-Star & Power Carbon Plant

36. Datong Weidu Activated Carbon Co., Ltd.

37. Datong Xuanyang Activated Carbon Co., Ltd.

38. Datong Zuoyun Biyun Activated Carbon Co., Ltd.

39. Datong Zuoyun Fu Ping Activated Carbon Co., Ltd.

40. Dezhou Jiayu Activated Carbon Factory

41. Dongguan Baofu Activated Carbon

42. Dongguan SYS Hitek Co., Ltd.

43. Dushanzi Chemical Factory

44. Fu Yuan Activated Carbon Co., Ltd.

45. Fujian Jianyang Carbon Plant

46. Fujian Nanping Yuanli Activated Carbon Co., Ltd.

47. Fujian Xinsen Carbon Co., Ltd.

48. Fujian Yuanli Active Carbon Co., Ltd.

49. Fujian Active Carbon Industrial Co., Ltd.

50. Fujian Yuanli Active Carbon Industrial Co., Ltd.

51. Fujian Zhixing Activated Carbon Co., Ltd.

52. Fuzhou Taking Chemical

53. Fuzhou Yihuan Carbon

54. Great Bright Industrial

55. Hangzhou Hengxing Activated Carbon

56. Hangzhou Hengxing Activated Carbon Co., Ltd.

57. Hangzhou Linan Tianbo Material (HSLATB)

58. Hangzhou Nature Technology

59. Hangzhou Waterland Environmental Technologies Co., Ltd.

60. Hebei Foreign Trade and Advertising Corporation

61. Hebei Luna Trading Co., Ltd.

62. Hebei Shenglun Import & Export Group Company

63. Hegongye Ninxia Activated Carbon Factory

64. Heilongjiang Provincial Hechang Import & Export Co., Ltd.

65. Hongke Activated Carbon Co., Ltd.

66. Huaibei Environment Protection Material Plant

67. Huairen Huanyu Purification Material Co., Ltd.

68. Huairen Jinbei Chemical Co., Ltd.

69. Huaiyushan Activated Carbon Group

70. Huatai Activated Carbon

71. Huzhou Zhonglin Activated Carbon

72. Inner Mongolia Taixi Coal Chemical Industry Limited Company

73. Itigi Corp. Ltd.

74. J&D Activated Carbon Filter Co. Ltd.

75. Jiangle County Xinhua Activated Carbon Co., Ltd.

76. Jiangsu Taixing Yixin Activated Carbon Technology Co., Ltd.

77. Jiangxi Hanson Import Export Co.

78. Jiangxi Huaiyushan Activated Carbon

79. Jiangxi Huaiyushan Activated Carbon Group Co.

80. Jiangxi Huaiyushan Suntar Active Carbon Co., Ltd.

81. Jiangxi Jinma Carbon

82. Jiangxi Yuanli Huaiyushan Active Carbon Co., Ltd.

83. Jianou Zhixing Activated Carbon

84. Jiaocheng Xinxin Purifìcation Material Co., Ltd.

85. Jilin Province Bright Future Industry and Commerce Co., Ltd.

86. Jing Mao (Dongguan) Activated Carbon Co., Ltd.

87. Kaihua Xingda Chemical Co., Ltd.

88. Kemflo (Nanjing) Environmental Tech

89. Keyun Shipping (Tianjin) Agency Co., Ltd.

90. Kunshan Actview Carbon Technology Co., Ltd.

91. Langfang Winfield Filtration Co.

92. Link Shipping Limited

93. Longyan Wanan Activated Carbon

94. Meadwestvaco (China) Holding Co., Ltd.

95. Mindong Lianyi Group

96. Nanjing Mulinsen Charcoal

97. Nantong Ameriasia Advanoed Activated Carbon Product Co., Ltd.

98. Ningxia Baiyun Carbon Co., Ltd.

99. Ningxia Baota Activated Carbon Co., Ltd.

100. Ningxia Baota Active Carbon Plant

101. Ningxia Guanghua A/C Co., Ltd.

102. Ningxia Blue-White-Black Activated Carbon (BWB)

103. Ningxia Fengyuan Activated Carbon Co., Ltd.

104. Ningxia Guanghua Chemical Activated Carbon Co., Ltd.

105. Ningxia Haoqing Activated Carbon Co., Ltd.

106. Ningxia Henghui Activated Carbon

107. Ningxia Honghua Carbon Industrial Corporation

108. Ningxia Huinong Xingsheng Activated Carbon Co., Ltd.

109. Ningxia Jirui Activated Carbon

110. Ningxia Lingzhou Foreign Trade Co., Ltd.

111. Ningxia Luyuangheng Activated Carbon Co., Ltd.

112. Ningxia Pingluo County Yaofu Activated Carbon Plant

113. Ningxia Pingluo Xuanzhong Activated Carbon Co., Ltd.

114. Ningxia Pingluo Yaofu Activated Carbon Factory

115. Ningxia Taixi Activated Carbon

116. Ningxia Tianfu Activated Carbon Co., Ltd.

117. Ninxia Tongfu Coking Co., Ltd.

118. Ningxia Weining Active Carbon Co., Ltd.

119. Ningxia Xingsheng Coal and Active Carbon Co., Ltd.

120. Ningxia Xingsheng Coke & Activated Carbon Co., Ltd.

121. Ningxia Yinchuan Lanqiya Activated Carbon Co., Ltd.

122. Ningxia Yirong Alloy Iron Co., Ltd.

123. Ningxia Zhengyuan Activated

124. Nuclear Ningxia Activated Carbon Co., Ltd.

125. OEC Logistic Qingdao Co., Ltd.

126. OEC Logistics Co., Ltd. (Tianjin)

127. Panshan Import and Export Corporation

128. Pingluo Xuanzhong Activated Carbon Co., Ltd.

129. Pingluo Yu Yang Activated Carbon Co., Ltd.

130. Shanghai Activated Carbon Co., Ltd.

131. Shanghai Astronautical Science Technology Development Corporation

132. Shanghai Coking and Chemical Corporation

133. Shanghai Goldenbridge International

134. Shanghai Jiayu International Trading (DezhouJiayu and Chengde Jiayu)

135. Shanghai Jinhu Activated Carbon (Xingan Shenxin and Jiangle Xinhua)

136. Shanghai Light Industry and Textile Import & Export Co., Ltd.

137. Shanghai Mebao Activated Carbon

138. Shanghai Xingchang Activated Carbon

139. Shanxi Blue Sky Purification Material Co., Ltd.

140. Shanxi Carbon Industry Co., Ltd.

141. Shanxi DMD Corporation

142. Shanxi Newtime Co., Ltd.

143. Shanxi Qixian Foreign Trade Corporation

144. Shanxi Qixian Hongkai Active Carbon Goods

145. Shanxi Supply and Marketing Cooperative

146. Shanxi Tianli Ruihai Enterprise Co.

147. Shanxi U Rely International Trade

148. Shanxi Xiaoyi Huanyu Chemicals Co., Ltd.

149. Shanxi Xinhua Activated Carbon Co., Ltd.

150. Shanxi Xinhua Chemical Co., Ltd. (formerly Shanxi Xinhua Chemical Factory)

151. Shanxi Xinhua Protective Equipment

152. Shanxi Xinshidai Import Export Co., Ltd.

153. Shanxi Xuanzhong Chemical Industry Co., Ltd.

154. Shanxi Zuoyun Yunpeng Coal Chemistry

155. Shenzhen Sihaiweilong Technology Co.

156. Shijiazhuang Xinshuang Trade Co., Ltd.

157. Sincere Carbon Industrial Co. Ltd.

158. Taining Jinhu Carbon

159. Tangshan Solid Carbon Co., Ltd.

160. Tianchang (Tianjin) Activated Carbon

161. Tianjin Century Promote International Trade Co., Ltd.

162. Taiyuan Hengxinda Trade Co., Ltd,

163. Tonghua Bright Future Activated Carbon Plant

164. Tonghua Xinpeng Activated Carbon Factory

165. Top One International Trading Co., Ltd.

166. Triple Eagle Container Line

167. Uniclear New-Material Co., Ltd.

168. United Manufacturing International (Beijing) Ltd.

169. Valqua Seal Products (Shanghai) Co.

170. VitaPac (HK) Industrial Ltd.

171. Wellink Chemical Industry

172. Xi Li Activated Carbon Co., Ltd.

173. Xi'an Shuntong International Trade & Industrials Co., Ltd.

174. Xiamen All Carbon Corporation

175. Xingan County Shenxin Activated Carbon Factory

176. Xinhua Chemical Company Ltd.

177. Xuanzhong Chemical Industry

178. Yangyuan Hengchang Active Carbon

179. Yicheng Logistics

180. Yinchuan Lanqiya Activated Carbon Co., Ltd.

181. Zhejiang Topc Chemical Industry Co.

182. Zhejiang Quizhou Zhongsen Carbon

183. Zhejiang Xingda Activated Carbon Co., Ltd.

184. Zhejiang Yun He Tang Co., Ltd.

185. Zhuxi Activated Carbon

186. Zuoyun Bright Future Activated Carbon Plant

[FR Doc. 2017-24184 Filed 11-6-17; 8:45 am]

BILLING CODE 3510-DS-P